DEPARTMENT OF COMMERCE

International Trade Administration

Exemption of Foreign Air Carriers From Excise Taxes; Review of Finding of Reciprocity (Bolivia), 26 U.S.C. 4221

AGENCY: International Trade Administration, U.S. Department of Commerce.

ACTION: Solicitation of public comments concerning a review of the existing exemption for aircraft registered in the Republic of Bolivia from certain internal revenue taxes on the purchase of supplies in the United States for such aircraft in connection with their international commercial operations.

SUMMARY: Notice is hereby given that the Department of Commerce is conducting a review to determine, pursuant to Section 4221 of the Internal Revenue Code, as amended (26 U.S.C. 4221), whether the Government of Bolivia has discontinued allowing substantially reciprocal tax exemptions to aircraft of U.S. registry in connection with international commercial operations similar to those exemptions currently granted to aircraft of Bolivian registry by the United States under the aforementioned statute.

The above-cited statute provides exemptions for aircraft of foreign registry from payment of certain internal revenue taxes on the purchase of supplies in the United States for such aircraft in connection with their international commercial operations. These exemptions apply upon a finding by the Secretary of Commerce, or his designee, and communicated to the Department of the Treasury, that such country allows, or will allow, “substantially reciprocal privileges” to aircraft of U.S. registry with respect to purchases of such supplies in that country. If a foreign country discontinues the allowance of such substantially reciprocal exemption, the exemption allowed by the United States will not apply after the Secretary of the Treasury is notified by the Secretary of Commerce, or his designee, of the discontinuance.

Interested parties are invited to submit their views, comments and supporting documentation in writing concerning this matter to Mr. Douglas B. Baker, Deputy Assistant Secretary for Services, Room 1128, U.S. Department of Commerce, Washington, DC, 20230. Submissions should be sent electronically to OSImail@ita.doc.gov. All submissions should be received no later than forty-five days from the date of this notice.

Comments received, with the exception of information marked “business confidential,” will be available for public inspection between Monday-Friday, 8:30 a.m. and 5:30 p.m. in the Trade Reference and Assistance Center Help Desk, Suite 800M, USA Trade Information Center, Ronald Reagan Building, 1300 Pennsylvania Avenue, NW., Washington, DC. Information marked “business confidential” shall be protected from disclosure to the full extent permitted by law.

It is suggested that those desiring additional information contact Mr. Eugene Alford, Office of Service Industries, Room 1124, U.S. Department of Commerce, Washington, DC 20230, or telephone 202-482-5071.

Dated: June 27, 2005.
David F. Long,
Acting Deputy Assistant Secretary for Services.

[FR Doc. E5-3436 Filed 6-29-05; 8:45 am]

BILLING CODE 3510-DR-P